FEDERAL COMMUNICATIONS COMMISSION

Notice of Public Information Collection(s) Being Submitted to OMB for Review and Approval

July 13, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 21, 2000. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0280.

Title: Section 90.633(f) and (g), Conventional Systems Loading Requirements (Wide Area Systems).

Form Number: N/A.

Type of Review: Revision of a currently approved collection.

Respondents: Business or other for-profit entities; not-for-profit institutions; and State, local, or tribal Governments.

Number of Respondents: 15.

Estimate Time Per Response: 0.5 to 1.0 hours.

Frequency of Response: On occasion reporting requirements.

Total Annual Burden: 10 hours.

Total Annual Costs: $2,200.

Needs and Uses: The Commission normally authorizes licenses 800 and 900 MHz radio systems to cover a confined area of operation. The Commission's responsibility is necessary, in part, to maintain spectrum efficiency since other licensees reuse these frequencies. However, rule sections 47 U.S.C. Sections 154(j) and 309(j), as amended, provide applicants who need specially configured wide area or ribbon systems the opportunity to request authorization for such systems upon a showing of need.

OMB Control Number: 3060-XXXX.

Title: Accessibility of Programming Providing Emergency Information, Section 79.2

Form Number: N/A.

Type of Review: New collection.

Respondents: Business or other for-profit entities; and Individuals or households; not-for-profit institutions; and State, local, or tribal government.

Number of Respondents: 200.

Estimate Time Per Response: 1 to 2 hours.

Frequency of Response: On occasion reporting requirement.

Total Annual Burden: 300 hours.

Total Annual Costs: $16,200.

Needs and Uses: With adoption of MM Docket 95-176, FCC 00-136, Second Report and Order, the FCC will require all video programming distributors to make local emergency information that they provide to viewers accessible to persons with hearing disabilities through closed captioning or by another method of visual presentation. Previously the Commission adopted rules to increase gradually the amount of captioned new programming offered over a period of years, and generally, will require that 100% of all new programming be captioned at the end of a transition period. This rule ensures that people with hearing disabilities will receive critical emergency information in an accessible format during the transition period. Viewers may file complaints alleging violation of the new rule, 47 CFR Section 79.2. The Commission will notify video programming distributors of the complaint, and the distributor will provide the Commission with a response to the complaint.

Federal Communications Commission.
Magalie Roman Salas,
Secretary.

[FR Doc. 00-18442 Filed 7-19-00; 8:45 am]

BILLING CODE 6712-01-P